DEPARTMENT OF TRANSPORTATION

Federal Aviation Administration

Notice of Intent To Request Renewal From the Office of Management and Budget (OMB) of Five Current Public Collections of Information

AGENCY: Federal Aviation Administration (FAA), DOT.

ACTION: Notice.

SUMMARY: In compliance with the Paperwork Reduction Act (44 U.S.C. 3501 et seq.), the FAA invites public comment on five currently approved public information collections which will be submitted to OMB for renewal.

DATES: Comments must be received on or before April 1, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0003, Malfunction or Defect Report. Collection of this information permits the FAA to evaluate its certification standards, maintenance programs, and regulatory requirements since their effectiveness is reflected in the number of equipment failures or the lack thereof. It is also the basis for issuance of Airworthiness Directives designed to prevent unsafe conditions or accidents. The affected public includes aircraft and repair station operators. The current estimated annual reporting burden is 6,935 hours.

2. 2120-0027, Application for Certificate of Waiver or Authorization. Part A of Subtitle VII of the Revised Title 49 United States Code authorizes the issuance of regulations governing the use of navigable airspace. 14 CFR 91, 101, and 105 prescribe regulations governing the general operation and flight of aircraft, moored balloons, kites, unmanned rockets, unmanned free balloons, and parachute jumping. Applicants are individual airmen, state and local governments, and businesses who have a need to deviate from the provisions of these regulations. The current estimated annual reporting burden is 12,202 hours.

3. 2120-0507, Special Federal Aviation Regulation (SFAR) 36, Development of Major Repair Data. SFAR 36 (to part 121) relieves qualifying applicants (Aircraft Maintenance, Commercial Aviation, Aircraft Repair Stations, Air Carriers, Air Taxi, and Commercial Operators) of the burden to obtain FAA approval of data developed by them for major repairs on a case-by-case basis, and provides for one-time approvals. The current estimated annual reporting burden is 530 hours.

4. 2120-0574, Aviation Safety Counselor of the Year Competition. The form is used to select nominees for recognition of their volunteer services to the FAA. The agency will use the information on the form to select nine regional winners and one national winner among private citizens involved in aviation. The current estimated annual reporting burden is 180 hours.

5. 2120-0644, License Requirements for Operation of a Launch Site. The information to be collected includes data required for performing launch site location analyses. This data is necessary in order to demonstrate to the Associate Administrator for Space Transportation/FAA that the proposed activity meets applicable public safety, national security, and foreign policy interests of the United States. A launch site is valid for a period of five years. Respondents are licensees authorized to operate sites. The current estimated annual reporting burden is 1592 hours.

Issued in Washington, DC, on January 24, 2002.
Steve Hopkins,
Manager, Standards and Information Division, APF-100.

[FR Doc. 02-2282 Filed 1-30-02; 8:45 am]

BILLING CODE 4910-13-M